ENVIRONMENTAL PROTECTION AGENCY

[EPA-HQ-OPP-2024-0139; FRL-12537-01-OMS]

Agency Information Collection Activities; Submission to the Office of Management and Budget for Review and Approval; Notice of Arrival of Pesticides and Devices Under Section 17(c) of FIFRA (Renewal)

AGENCY: Environmental Protection Agency (EPA).

ACTION: Notice.

SUMMARY: The Environmental Protection Agency (EPA) has submitted the following information collection request (ICR), Notice of Arrival of Pesticides and Devices Under Section 17(c) of FIFRA (EPA ICR Number 0152.15 and OMB Control Number 2070-0020), to the Office of Management and Budget (OMB) for review and approval in accordance with the Paperwork Reduction Act (PRA). This is a proposed extension of ICR, which is currently approved through January 31, 2025. Public comments were previously requested via the Federal Register on June 24, 2024 during a 60 day comment period. This notice allows for an additional 30 days for public comments.

DATES: Comments must be received on or before February 3, 2025.

ADDRESSES: Submit your comments, referencing Docket ID Number EPA-HQ-OPP-2024-0139, to EPA online using https://www.regulations.gov or by mail to EPA Docket Center, Environmental Protection Agency, Mail Code 28221T, 1200 Pennsylvania Ave. NW, Washington, DC 20460

The EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Connie Ocampo, Office of Program Support (7602M), Office of Chemical Safety and Pollution Prevention, Environmental Protection Agency, 1200 Pennsylvania Ave. NW, Washington, DC 20460-0001; telephone number: (202) 566-1216; email address: ocampo.connie@epa.gov.

SUPPLEMENTARY INFORMATION: This is a request to renew the approval of an ICR currently approved through January 31, 2025. An agency may not conduct or sponsor, and a person is not required to respond to, a collection of information unless it displays a currently valid OMB control number.

Public comments were previously requested via the Federal Register on April 25, 2024, establishing a 60-day comment period (89 FR 31747). This notice allows for an additional 30 days for public comments. Supporting documents, which explain in detail the information collection activities and related estimated burden and costs that are summarized in this document, are available in the docket.

Abstract: The U.S. Customs and Border Protection (CBP or “Customs”) regulations at 19 CFR 12.112 require that an importer or their authorized agent desiring to import a pesticide or pesticide device into the United States shall, prior to the shipment's arrival in the United States, submit a Notice of Arrival (NOA) of Pesticides and Devices (EPA Form 3540-1 or its electronic alternative via a CBP-authorized electronic interchange system) to EPA. This is necessary to ensure that the EPA fulfills its obligations and is notified of the arrival of pesticides and pesticide devices as required under section 17(c) of the Federal Insecticide, Fungicide, and Rodenticide Act (FIFRA) and allow time for the EPA to review and plan for the final disposition of the shipment. Paper NOAs (EPA Form 3540-1) must be reviewed by the EPA, provide the EPA's determination of any action to be taken by CBP, and be signed by the EPA Administrator (or designee per delegations). Alternatively, an importer or their authorized agent can electronically submit the pesticide data required on the Paper NOA through the Participating Government Agency (PGA) Message Set in Automated Commercial Environment (ACE) along with an image of the product's label. The data in the PGA Message Set is automatically checked for presence, format, and validity, similar to the physical reviews done by regional import specialist for paper NOAs submitted by using EPA Form 3540-1. Upon entry of a shipment of pesticides or devices, and concurrent with the filing of the entry documentation, CBP must be in receipt of the completed Paper NOA or its electronic alternative. CBP will compare the entry information for the shipment with the information in the NOA and notify the EPA of any discrepancies.

Form number(s): EPA Form 3540-1 or its Customs-authorized electronic equivalent.

Respondents/affected entities: Entities potentially affected by this ICR are importers of pesticides and pesticide devices, which may include entities identified with the following North American Industrial Classification System (NAICS) codes: Commercial and Institutional Building Construction (NAICS 236220); Pesticide and Other Agricultural Chemical Manufacturing (NAICS 325300); and Public Administration: Executive Offices (NAICS 921110). Other business and institutions that import pesticides include Agriculture, Forestry, Fishing and Hunting (Sector 11), Wholesale Trade, (Sector 42).

Respondent's obligation to respond: Mandatory, per 40 CFR 152.25(f), FIFRA sections 3 and 25, and 19 CFR 12.112.

Estimated number of potential respondents: 168,025.

Frequency of response: On occasion.

Total estimated burden: 67,723 hours (per year). Burden is defined at 5 CFR 1320.3(b).

Total estimated costs: $5,478,039 (per year), includes $0 annualized capital investment or maintenance and operational costs.

Changes in the estimates: There is an increase of 26,843 hours in the total estimated respondent burden compared with that currently approved by OMB. This change reflects an increase in the annual number of NOAs submitted electronically through the ACE system by 75,892. There is an increase in respondent costs by $2,724,517. Cost increases are a result of changes to reflect the current wage rates. This is an adjustment.

Courtney Kerwin,
Director, Information Engagement Division.

[FR Doc. 2024-31463 Filed 12-31-24; 8:45 am]

BILLING CODE 6560-50-P